FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 3, 2001.

A. Federal Reserve Bank of St. Louis (Randall C. Sumner, Vice President) 411 Locust Street, St. Louis, Missouri 63166-2034:

1. Scherrie Viola Giamanco, Springfield, Illinois; to retain voting shares of First Nokomis Bancorp, Inc., Nokomis, Illinois, and thereby indirectly retain voting shares of First National Bank of Nokomis, Nokomis, Illinois.

B. Federal Reserve Bank of Kansas City (D. Michael Manies, Assistant Vice President) 925 Grand Avenue, Kansas City, Missouri 64198-0001:

1. Barbara M. Brown, James A Brown, Robert E. Brown, John D. Harmon, Teresa A. Harmon, Mary C. Tracy, and Richard A. Montera, all of Eaton, Colorado; to acquire voting shares of Farmers Bank, Ault, Colorado (in organization).

C. Federal Reserve Bank of San Francisco (Maria Villanueva, Consumer Regulation Group) 101 Market Street, San Francisco, California 94105-1579:

1. Joseph Willy Edmonds, Seattle, Washington; to acquire additional voting shares of NWI Financial Corporation, Seattle, Washington, and thereby indirectly acquire additional voting shares of Northwest International Bank, Seattle, Washington.

Board of Governors of the Federal Reserve System, June 13, 2001.
Robert deV. Frierson
Associate Secretary of the Board.

[FR Doc. 01-15348 Filed 6-15-00; 8:45 am]

BILLING CODE 6210-01-S